DEPARTMENT OF COMMERCE

Patent and Trademark Office

[Docket No.: PTO-P-2006-0026]

Request for Comments on Patents Search Templates

AGENCY: United States Patent and Trademark Office, Commerce.

ACTION: Request for comments.

SUMMARY: The United States Patent and Trademark Office (USPTO) has developed and published patent search templates. Search templates define the field of search, search tools, and search methodologies that should be considered each time a patent application is examined in a particular classification. The USPTO is inviting public comment on the search templates.

ADDRESSES: Comments should be sent by electronic mail message over the Internet addressed to STIC-SearchTemplate@uspto.gov. Comments may also be submitted by mail addressed to: Mail Stop Patents Search Template Comments, Commissioner for Patents, P.O. Box 1450, Alexandria, VA 22313-1450. Although comments may be submitted by mail, the USPTO prefers to receive comments via the Internet.

The comments will be available for public inspection via the USPTO's Internet Web site (address: http://www.uspto.gov). Because comments will be made available for public inspection, information that is not desired to be made public, such as an address or phone number, should not be included in the comments.

FOR FURTHER INFORMATION CONTACT: Kristin Vajs, Manager, Scientific and Technical Information Center (STIC), Office of the Deputy Commissioner for Patent Resources and Planning, by telephone at (571) 272-3512.

SUPPLEMENTARY INFORMATION: Currently, patent applications filed in the USPTO, and the resulting United States patent application publications and United States patents, are classified into approximately 600 classes based upon technology and subject matter of the claimed invention. A patent examiner is responsible for reviewing prior patent documents, both domestic and foreign, and other printed literature related to an application's subject matter during the examination process. This review, called the search, is performed by consulting the appropriate classes, and their respective subclasses, in the United States classification system, other patent document databases, and any other printed media (also known as “non-patent literature” or “NPL”), which might disclose the invention disclosed/claimed in a patent application under examination.

In determining the appropriate field of search for an invention, the examiner must consider three sources of information: (1) Domestic patent documents; (2) foreign patent documents; and (3) NPL. The current requirements for conducting that search are set forth in section 904.02 of the Manual of Patent Examining Procedure (MPEP). See MPEP § 904.02 (8th ed. 2001) (Rev. 3, August 2005). An examiner may not eliminate any of these resources from consideration unless the examiner can justify to a reasonable certainty that no more pertinent references will be found in a further search. See MPEP § 904.02. Although the general guidance set forth in the MPEP is accurate, it provides little information on what resources should be searched, and which of the available search tools or methodologies, for a particular field of subject matter should be consulted. Detailed guidance on the choice and use of specific search tools were left to each Technology Center. See MPEP § 904.02(b)).

The USPTO has published “search templates” for each of the classes found in the USPTO's Manual of Classification. A search template will define the search field and resource areas of general subject matter, classes/subclasses, patent documents (both domestic and foreign) and NPL that an examiner should consider each time a patent application is examined in a particular classification. Additionally, the search template will indicate what search tools or methodologies should be considered when performing the search. These search templates are based upon input from patent examiners and other searchers at the USPTO and represent an attempt to capture their institutional knowledge of what are the most relevant prior art searches for determining the patentability of subject matter in the area of technology.

In an effort to ensure that each classification has an appropriately structured field of search and search strategy, the USPTO has published the search templates on the USPTO's Internet Web site at http://www.uspto.gov/web/patents/searchtemplates/. The USPTO is publishing this request for comments to gather public feedback on the adequacy and completeness of the search templates.

Dated: May 10, 2006.
John Doll,
Commissioner for Patents.

[FR Doc. E6-7424 Filed 5-15-06; 8:45 am]

BILLING CODE 3510-16-P